FEDERAL COMMUNICATIONS COMMISSION

47 CFR Parts 24 and 64

[CC Docket No. 97-213, FCC 99-230]

Communications Assistance for Law Enforcement Act

AGENCY: Federal Communications Commission.

ACTION: Correcting amendments.

SUMMARY: On August 31, 1999, the Commission released a Third Report and Order in the matter of Communications Assistance for Law Enforcement Act. This document contains corrections to the final regulations that appeared in the Federal Register of September 24, 1999 (64 FR 51710).

DATES: Effective April 7, 2000.

FOR FURTHER INFORMATION CONTACT: Rodney Small, Office of Engineering and Technology, (202) 418-2452 .

SUPPLEMENTARY INFORMATION:

Background

The final regulations that are the subject of this correction relate to Communications Assistance for Law Enforcement Act under Sections 24.903(a), 24.903(b), 64.2203(a) and 64.2203(b) of the rules.

Need for Correction

As published, the final regulations contain errors, which require correction.

List of Subjects in 47 CFR Parts 24 and 64

Communications common carriers.

Accordingly, 47 CFR parts 24 and 64 are corrected by making the following amendments:

PART 24—PERSONAL COMMUNICATIONS SERVICES

1. The authority citation for part 24 continues to read as follows:

Authority: 47 U.S.C. 154, 301, 302, 303, 309 and 332.

2. Section 24.903 is amended by revising paragraphs (a) and (b) introductory text to read as follows:

(a) Except as provided under paragraph (b) of this section, as of June 30, 2000, a broadband PCS telecommunications carrier shall provide to a LEA the assistance capability requirements of CALEA, see 47 U.S.C. 1002. A carrier may satisfy these requirements by complying with publicly available technical requirements or standards adopted by an industry association or standard-setting organization, such as J-STD-025.

(b) As of September 30, 2001, a broadband PCS telecommunications carrier shall provide to a LEA communications and call-identifying information transported by packet-mode communications and the following capabilities:

* * * * *

PART 64—MISCELLANEOUS RULES RELATING TO COMMON CARRIERS

3. The authority citation for part 64 continues to read as follows:

Authority: 47 U.S.C. 151, 154, 201, 202, 205, 218-220, and 332 unless otherwise noted. Interpret or apply sections 201, 218, 225, 226, 227, 229, 332, 48 Stat. 1070, as amended, 47 U.S.C. 201-204, 208-, 225, 226, 227, 229, 332, 501 and 503 unless otherwise noted.

4. Section 64.2203 is amended by revising paragraphs (a) and (b) introductory text to read as follows:

(a) Except as provided under paragraph (b) of this section, as of June 30, 2000, a wireline telecommunications carrier shall provide to a LEA the assistance capability requirements of CALEA, see 47 U.S.C. 1002. A carrier may satisfy these requirements by complying with publicly available technical requirements or standards adopted by an industry association or standard-setting organization, such as J-STD-025.

(b) As of September 30, 2001, a wireline telecommunications carrier shall provide to a LEA communications and call-identifying information transported by packet-mode communications and the following capabilities:

* * * * *

Federal Communications Commission.
Magalie Roman Salas,
Secretary.

[FR Doc. 00-8590 Filed 4-6-00; 8:45 am]

BILLING CODE 6712-01-P